DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: State/Local/Tribal Hazard Mitigation Plans-Section 322 of the Disaster Mitigation Act of 2000.

OMB Number: 1660-0062.

Abstract: This collection is in accordance with our responsibilities under 44 CFR Part 201 Hazard Mitigation Planning, which requires FEMA's approval and determination of State, local and tribal eligibility for Stafford Act assistance.

Affected Public: State, local and Tribal governments.

Number of Respondents: 1,024 respondents.

Estimated Time per Respondent: The estimated response time for this collection varies depending on the level of government and the scope of the plan. Response time can be as short as 8 hours for a State's review of a local mitigation plan or as long as 2,080 hours for the actual development of a new mitigation plan. On average the collection takes approximately 545 hours.

Estimated Total Annual Burden Hours: 571,200 hours.

Frequency of Response: Once every three years with 3/5 year updates.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before November 28, 2005.

FOR FURTHER INFORMATION CONTACT: Requests for additional information or copies of the information collection should be made to Chief, Records Management, FEMA at 500 C Street, SW., Room 316, Washington, DC 20472, facsimile number (202) 646-3347, or e-mail address FEMA-Information-Collections@dhs.gov.

Dated: October 21, 2005.
George S. Trotter,
Acting Branch Chief, Information Resources Management Branch, Information Technology Services Division.

[FR Doc. 05-21507 Filed 10-27-05; 8:45 am]

BILLING CODE 9110-12-P